DEPARTMENT OF LABOR

Employment and Training Administration

[TA-W-56,863]

Valspar-Furniture Sales Group & International Color Design Center, a Subsidiary of Valspar Global Wood Coatings D/B/A/ Engineered Polymer Solutions High Point, NC; Including Employees of Valspar-Furniture Sales Group & International Color Design Center a Subsidiary of Valspar Global Wood Coatings, D/B/A Engineered Polymer Solutions High Point, NC Operating at Various Locations in the Following States: TA-W-56,863A Virginia, TA-W-56,863B Vermont, TA-W-56,863C California, TA-W-56,863D Michigan; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance on May 6, 2005, applicable to workers of Valspar-Furniture Sales Group & International Color Design Center, a subsidiary of Valspar Global Wood Coatings, High Point, North Carolina. The notice was published in the Federal Register on May 25, 2005 (70 FR 30146).

At the request of the state agency, the Department reviewed the certification for workers of the subject firm.

New Information shows that Valspar-Furniture Sales Group & International Color Design Center, a subsidiary of Valspar-Global Wood Coatings is doing business as Engineered Polymer Solutions. Information also shows that worker separations have occurred involving out-stationed employees of the subject firm who supported production at the High Point, North Carolina location from the following states: Virginia, Vermont, California and Michigan.

Based on this new information, the Department is amending this certification to include “doing business as Engineered Polymer Solutions” and to also include out-stationed employees of the subject firm located in the following states: Virginia, Vermont, California and Michigan.

The intent of the Department's certification is to include all workers of Valspar-Furniture Sales Group & International Color Design Center, a subsidiary of Valspar Global Wood Coatings, d/b/a Engineered Polymer Solutions, High Point, North Carolina and out-stationed personnel who were adversely affected by increased imports.

The amended notice applicable to TA-W-56,863 is hereby issued as follows:

All workers of Valspar-Furniture Sales Group & International Color Design Center, a subsidiary of Valspar Global Wood Coatings, d/b/a/ Engineered Polymer Solutions, High Point, North Carolina (TA-W-56,863), including out-stationed personnel in Virginia (TA-W-863A), Vermont (TA-W-863B), California (TA-W-863C) and Michigan (TA-W-863D) who became totally or partially separated from employment on or after March 14, 2004, through May 6, 2007, are eligible to apply for adjustment assistance under Section 223 of the Trade Act of 1974, and are also eligible to apply for alternative trade adjustment assistance under Section 246 of the Trade Act of 1974.

Signed at Washington, DC this 13th day of April 2007.
Richard Church,
Certifying Officer, Division of Trade Adjustment Assistance.

[FR Doc. E7-7724 Filed 4-23-07; 8:45 am]

BILLING CODE 4510-FN-P